ENVIRONMENTAL PROTECTION AGENCY

[FRL-9667-1]

Notification of a Public Meeting of the Science Advisory Board (SAB); Exposure and Human Health Committee

AGENCY: Environmental Protection Agency (EPA).

ACTION: Notice.

SUMMARY: The EPA Science Advisory Board (SAB) Staff Office announces a public meeting of the SAB Exposure and Human Health Committee to develop a work plan for advancing the EPA's application of Computational Toxicology (CompTox) data into the development of EPA hazard and risk assessments.

DATES: The meeting will be held on Wednesday, May 30, 2012 from 10:00 a.m. to 5:00 p.m. (Eastern Time) and Thursday, May 31, 2012 from 8:30 a.m. to 12:30 p.m. (Eastern Time).

ADDRESSES: The public meeting will be held at The Embassy Row Hotel, 2015 Massachusetts Ave. NW., Washington, DC 20036.

FOR FURTHER INFORMATION CONTACT: Any member of the public who wants further information concerning the public meeting may contact Dr. Sue Shallal, Designated Federal Officer (DFO), via telephone at (202) 564-2057 or email at shallal.suhair@epa.gov. General information concerning the SAB can be found on the EPA Web site at http://www.epa.gov/sab.

SUPPLEMENTARY INFORMATION: The SAB was established pursuant to the Environmental Research, Development, and Demonstration Authorization Act, codified at 42 U.S.C. 4365 to provide independent scientific and technical advice to the EPA Administrator on the technical basis for EPA actions. The SAB is undertaking an initiative to develop advice to assist EPA in advancing the application of ORD's Computational CompTox research for human health risk assessment to meet its programmatic needs. ORD's CompTox Research Program conducts innovative research that integrates advances in molecular biology, chemistry and innovative computer science to more effectively and efficiently rank chemicals based on risks. The goal of the CompTox Research Program is to provide high-throughput chemical screening data and decision support tools for assessing chemical exposure, hazard, and risk to human health and the environment. Pursuant to Federal Advisory Committee Act (FACA) and EPA policy, notice is hereby given that the SAB Exposure and Human Health Committee, along with liaison members from the Federal Insecticide, Fungicide and Rodenticide Act (FIFRA) Scientific Advisory Panel (SAP), will hold a public meeting to receive briefings from EPA offices and develop a work plan for this advisory activity. The SAB Exposure and Human Health Committee will provide advice through the chartered SAB and will comply with the provisions of FACA and all appropriate SAB Staff Office procedural policies.

Availability of Meeting Materials: Prior to the meeting, the review documents, agenda and other materials will be accessible through the calendar link on the blue navigation bar at http://www.epa.gov/sab/.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Interested members of the public may submit relevant written or oral information on the topic of this advisory activity, and/or the group conducting the activity, for the SAB to consider during the advisory process. Input from the public to the SAB will have the most impact if it provides specific scientific or technical information or analysis for SAB committees to consider or if it relates to the clarity or accuracy of the technical information. Members of the public wishing to provide comment should contact the DFO directly. Oral Statements: In general, individuals or groups requesting an oral presentation at a public meeting will be limited to five minutes. Interested parties should contact Dr. Sue Shallal, DFO, in writing (preferably via email) at the contact information noted above by May 23, 2012, to be placed on the list of public speakers for the meeting. Written Statements: Written statements should be supplied to the DFO via email at the contact information noted above by May 23, 2012 for the meeting so that the information may be made available to the Committee members for their consideration. Written statements should be supplied in one of the following electronic formats: Adobe Acrobat PDF, MS Word, MS PowerPoint, or Rich Text files in IBM-PC/Windows 98/2000/XP format. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Sue Shallal at (202) 564-2057 or shallal.suhair@epa.gov. To request accommodation of a disability, please contact Dr. Shallal preferably at least ten days prior to the meeting to give EPA as much time as possible to process your request.

Dated: April 19, 2012.
Thomas H. Brennan,
Deputy Director, EPA Science Advisory Board Staff Office.

[FR Doc. 2012-10327 Filed 4-27-12; 8:45 am]

BILLING CODE 6560-50-P